DEPARTMENT OF ENERGY

Federal Energy Regulatory Commission

[Project No. 298-081]

Southern California Edison Company; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: New Major License.

b. Project No.: 298-081.

c. Date Filed: December 23, 2019.

d. Applicant: Southern California Edison Company.

e. Name of Project: Kaweah Hydroelectric Project.

f. Location: The existing project is located on the Kaweah River and East Fork Kaweah River in Tulare County, California. The project occupies 176.26 acres of public lands administered by the Bureau of Land Management. The project incorporates non-project facilities (diversion structures and water conveyance facilities) located within Sequoia National Park, which are authorized by a National Park Service special use permit.

g. Filed Pursuant to: Federal Power Act, 16 U.S.C. 791 (a)-825(r).

h. Applicant Contact: Wayne P. Allen, Principle Manager, Hydro Licensing and Implementation, Southern California Edison Company, 1515 Walnut Grove Avenue, Rosemead, CA 91770, (626) 302-9741 or email at wayne.allen@sce.com.

i. FERC Contact: Jim Hastreiter, (503) 552-2760 or james.hastreiter@ferc.gov.

j. Deadline for filing motions to intervene and protests, comments, recommendations, preliminary terms and conditions, and preliminary prescriptions: 60 days from the issuance date of this notice; reply comments are due 105 days from the issuance date of this notice. The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-298-081.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The Kaweah Project has three developments.

Kaweah No. 1

This development consists of: (1) A 20-foot-long and 6-foot-high concrete diversion dam on the East Fork Kaweah River, (2) a 30,723-foot-long steel flume, (3) a forebay tank, (4) a 3,340-foot-long penstock, and (4) a powerhouse with an impulse turbine rated at 2.25 megawatts (MW).

Kaweah No. 2

This development consists of: (1) A 161-foot-long and 7-foot-high masonry diversion dam on the Kaweah River, (2) a 16,738-foot-long concrete-lined ditch, (3) a 3,822-foot-long steel flume, (4) a 1,047-foot-long steel pipe, (5) a forebay, (6) a 1,012-foot-long buried penstock, and (7) a powerhouse with a Francis turbine rated at 1.8 MW.

Kaweah No. 3

This development consists of: (1) A 2,580-foot-long concrete-lined flume, (2) an embankment forebay, (3) a 3,151-foot-long penstock, and (4) a powerhouse with two impulse turbines rated at a combined 4.8 MW.

The project has a primary 4.09-mile-long transmission line extending from the Kaweah No. 3 powerhouse to a substation, and two tap lines (120-foot-long and 0.4-mile-long) connecting Kaweah No. 1 and No. 2 powerhouses, respectively, to the primary line, and appurtenant facilities.

Non-Project Facilities

The project makes use of several non-project facilities located in Sequoia National Park. These facilities comprise portions of Kaweah No. 1 and No. 3 developments: (1) Two diversion structures on the Middle Fork and Marble Fork Kaweah Rivers, (2) a 21,000-foot-long steel flume that is the initial section of flowline which conveys water to the Kaweah No. 3 powerhouse, and (3) four small reservoirs on the East Fork Kaweah River. These facilities are operated under a special use permit (Permit No. PWR-SEKI-6000-2016-015) issued to SCE by the National Park Service, which expires on September 8, 2026.

Project Boundary

SCE is proposing the following modifications to the existing project boundary to include all lands necessary for operation and maintenance of the project, remove lands no longer necessary for operation and maintenance of the project, and correct known errors in the current Exhibit G for the project.

Boundary Increases

The project boundary will be increased to include the following existing project facilities that are currently outside the boundary.

Kaweah No. 1 Development

• Kaweah No. 1 Gaging Cableway (Map G-1h)

• Kaweah No. 1 Diversion Solar Panel (Map G-1h)

• Kaweah No. 1 Solar Yard Satellite Repeater (Map G-1h)

• Kaweah No. 1 Flowline Access Road—Unnamed (portion) (Map G-1h)

• Kaweah No. 1 Flowline Access Road—Bear Canyon (portion) (Map G-1h)

• Kaweah No. 1 Flowline Access Road—Slick Rock (portion) (Map G-1h)

Kaweah No. 2 Development

• Kaweah No. 2 Gaging Cableway (Map G-1d)

• Kaweah No. 2 Flowline—West Access Road (portion) (Map G-1b)

• Kaweah No. 2 Flowline—Center Access Road (portion) (Map G-1b)

• Kaweah No. 2 Flowline Access Road—Canal 6 West (Map G-1c)

• Kaweah No. 2 Flowline Access Road—Canal 6 East (Map G-1c)

• Kaweah No. 2 Flowline Access Road—Canal 5 (portion) (Map G-1c)

• Kaweah No. 2 Flowline Access Road—Canal 4 West (Map G-1c)

• Kaweah No. 2 Flowline Access Road—Canal 4 East (Map G-1c)

• Kaweah No. 2 Flowline Access Road—Canal 2 Brushout Grid (portion) (Map G-1c)

Boundary Decreases

The project boundary will be decreased to remove communication line and road corridors that are no longer necessary for operation and maintenance of the project.

Kaweah No. 1 Development

• Communication line corridor along Kaweah No. 1 Flowline in the vicinity of Kaweah No. 1 Diversion Dam (Map G-1h)

• Communication line corridor along Kaweah No. 1 Flowline in the vicinity of Kaweah No. 1 Forebay Tank (Map G-1f)

• Communication line corridor between Kaweah No. 1 Powerhouse and Kaweah No. 2 Flowline (Map G-1b)

Kaweah No. 2 Development

• Communication line corridor along the Kaweah No. 2 Flowline in the vicinity of Flume 9/Flume 10 (Map G-1b)

• Communication line corridor along the Kaweah No. 2 Flowline in the vicinity of Canal 9 (Map G-1b)

• Communication line corridor along the Kaweah No. 2 Flowline in the vicinity of Canal 6 (Map G-1c)

• Communication line corridor along the Kaweah No. 2 Flowline in the vicinity of Flume 5 (Map G-1c)

• Communication line corridor along the Kaweah No. 2 Flowline in the vicinity of Flume 2 (Map G-1c)

The following road corridors will be removed as they are remnants of the original project which have been removed and are no longer in existence.

Kaweah No. 2 Development

• Road corridor along the Kaweah No. 2 Flowline in the vicinity of Canal 9 (Map G-1b)

• Road corridor from Kaweah No. 2 Flowline—East Access Road to Kaweah No. 2 Flowline (Map G-1c)

Kaweah No. 3 Development

• Road corridor from Kaweah No. 3 Forebay Road to Kaweah No. 3 Penstock (Map G-1d)

Boundary Corrections

The project boundary will be further modified because a review of the existing boundary against the latest data sources available for the project resulted in some corrections to the project boundary currently approved by the Commission. These specific instances of boundary corrections will be included in the revised Exhibit G.

m. The Commission provides all interested persons an opportunity to view and/or print the license application via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, please contact FERC Online Support at FERCOnlineSupport@ferc.gov, (866) 208-3676 (toll free), or (202) 502-8659 (TTY). A copy is also available for inspection and reproduction at the address in item (h) above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following schedule. Revisions to the schedule will be made as appropriate.

Milestone | Target date
Filing of recommendations, preliminary terms and conditions, and preliminary fishway prescriptions | June 2020.
Commission issues Draft EA or EIS | February 2021.
Comments on Draft EA or EIS | March 2021.
Modified Terms and Conditions | May 2021.
Commission Issues Final EA or EIS | August 2021.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: April 15, 2020.
Kimberly D. Bose,
Secretary.

[FR Doc. 2020-08447 Filed 4-21-20; 8:45 am]

BILLING CODE 6717-01-P